NUCLEAR REGULATORY COMMISSION

[Docket Number 030-31768]

Notice of Availability of Environmental Assessment and Finding of No Significant Impact for License Amendment for Truman State University, Kirksville, MO

AGENCY: Nuclear Regulatory Commission.

ACTION: Notice of availability of Environmental Assessment and Finding of No Significant Impact.

FOR FURTHER INFORMATION CONTACT: Dr. Peter J. Lee, Division of Nuclear Materials Safety, U.S. Nuclear Regulatory Commission, Region III, 2443 Warrenville Road, Lisle, Illinois 60532-4352; telephone (630) 829-9870; or by email at pjl2@nrc.gov.

SUPPLEMENTARY INFORMATION:

I. Introduction

The U.S. Nuclear Regulatory Commission (NRC) is considering the issuance of a license amendment of Material License No. 24-17224-02 issued to Truman State University (the licensee), to terminate its license and authorize release of its Kirksville, Missouri facility for unrestricted use.

The NRC staff has prepared an Environmental Assessment (EA) in support of this licensing action in accordance with the requirements of 10 CFR Part 51. Based on the EA, the NRC has concluded that a Finding of No Significant Impact (FONSI) is appropriate. The amendment will be issued following the publication of this Notice.

II. EA Summary

The purpose of the proposed action is to terminate Truman State University's license and release its Kirksville, Missouri facility for unrestricted use. On July 25, 1990, the NRC authorized Truman State University to use labeled compounds of P-32, I-125, H-3, C-14, etc. for research and development. On December 18, 2003, Truman State University submitted a license amendment request to terminate its license and release its Kirksville facility for unrestricted use. Truman State University has conducted surveys of the facility and provided information to the NRC to demonstrate that the site meets the license termination criteria in Subpart E of 10 CFR Part 20 for unrestricted release. The staff has examined Truman State University's request and the information that the licensee has provided in support of its request, including the surveys performed by Truman State University to demonstrate compliance with 10 CFR 20.1402, “'Radiological Criteria for Unrestricted Use,”' to ensure that the NRC's decision is protective of the public health and safety and the environment.

III. Finding of No Significant Impact

The staff has prepared the EA (summarized above) in support of Truman State University's proposed license amendment to terminate its license and release the Kirksville facility for unrestricted use. Based on its review, the staff has determined that the affected environment and the environmental impacts associated with the decommissioning of Truman State University's facility are bounded by the impacts evaluated by the “Generic Environmental Impact Statement in Support of Rulemaking on Radiological Criteria for License Termination of NRC-Licensed Nuclear Facilities” (NUREG-1496). No outdoor areas were affected by the use of licensed materials. Additionally, no non-radiological impacts or other activities that could result in cumulative impacts were identified. The staff also finds that the proposed release for unrestricted use of the Truman State University's facility is in compliance with 10 CFR 20.1402. On the basis of the EA, the staff has concluded that the environmental impacts from the proposed action would not be significant. Accordingly, the staff has determined that a FONSI is appropriate, and has determined that the preparation of an environmental impact statement is not warranted.

IV. Further Information

In accordance with 10 CFR 2.390 of the NRC's “Rules of Practice,” Truman State University's request, the EA summarized above, and the documents related to this proposed action are available electronically for public inspection and copying from the Publicly Available Records (PARS) component of NRC's document system (ADAMS). ADAMS is accessible from the NRC Web site at http://www.nrc.gov/reading-rm/adams.html. These documents include Truman State University's NRC Form 314 dated December 18, 2003, with enclosures (Accession No. ML041120082); and the EA summarized above (Accession No. ML041190131). These documents may also be viewed electronically on the public computers located at the NRC's Public Document Room (PDR), O 1 F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Lisle, Illinois, this 28th day of April, 2004.
William G. Snell,
Acting Chief, Decommissioning Branch, Division of Nuclear Materials Safety, RIII.

[FR Doc. 04-10614 Filed 5-10-04; 8:45 am]

BILLING CODE 7590-01-P